DEPARTMENT OF TRANSPORTATION

Surface Transportation Board

[Docket No. FD 35553]

Big Spring Rail System, Inc.;Operation Exemption;Transport Handling Specialists, Inc.

Big Spring Rail System, Inc. (BSRS), a noncarrier, has filed a verified notice of exemption under 49 CFR 1150.31 to operate over approximately 2.07 miles of rail line between mileposts 0.0 and 2.07± in Howard County, Tex., owned by the City of Big Spring, Tex. (City). BSRS will be operating the line for Transport Handling Specialists, Inc., a nonoperating carrier, which is leasing the line from the City. BSRS states that it intends to interchange traffic with Union Pacific Railroad Company at milepost 0.0.

The transaction may be consummated on or after October 27, 2011 (30 days after the notice of exemption was filed).

BSRS certifies that its projected annual revenues as a result of this transaction would not exceed those that would qualify it as a Class III rail carrier and further certifies that its projected annual revenues will not exceed $5 million.

If the verified notice contains false or misleading information, the exemption is void ab initio. Petitions to revoke the exemption under 49 U.S.C. 10502(d) may be filed at any time. The filing of a petition to revoke will not automatically stay the effectiveness of the exemption. Petitions for stay must be filed no later than October 20, 2011 (at least 7 days before the exemption becomes effective).

An original and 10 copies of all pleadings, referring to Docket No. FD 35553, must be filed with the Surface Transportation Board, 395 E Street, SW., Washington, DC 20423-0001. In addition, one copy of each pleading must be served on Baxter Wellmon, 1554 Paoli Pike, #179, West Chester, PA 19380.

Board decisions and notices are available on our Web site at http://www.stb.dot.gov.

Decided: October 5, 2011.
By the Board.
Rachel D. Campbell,
Director, Office of Proceedings.
Jeffrey Herzig,
Clearance Clerk.

[FR Doc. 2011-26245 Filed 10-12-11; 8:45 am]

BILLING CODE 4915-01-P